DEPARTMENT OF JUSTICE

Notice of Lodging of Amendments to Consent Decree

Under 28 CFR 50.7, notice is hereby given that on November 29, 2001, amendments to the Consent Decree filed in United States v. Marine Shale Processors, Inc., Civ. No. CV90-1240, were lodged with United States District Court for the Western District of Louisiana. The original Consent Decree was filed on February 19, 1998, and was modified by an Order of the Court dated February 23, 1999, and again on June 13, 2001.

In this action against Marine Shale Processors, Inc., (“MSP”) the United States sought to recover civil penalties and enjoin violations to the Resource Conservation and Recover Act (“RCRA”), 42 U.S.C. 6901 et seq., the Clean Water Act, 33 U.S.C. 1251 et seq., and the Clean Air Act 42 U.S.C. 7413. The United States also sought relief under the Comprehensive Environmental Response, Compensation, and Liability Act (“CERCLA”), 42 U.S.C. 9604, 9606, and 9607. MSP operated a facility in Morgan City, Louisiana that treated hazardous waste by combustion.

These amendments extend the deadline by which a new company, CTX, Inc. must purchase the assets and liabilities of MSP, and extend the “Continuing Election” provision of the Consent Decree. The amendments to Section IV and V of the Consent Decree provide that these deadlines are extended until January 11, 2002.

The Department of Justice will receive for a period of ten (10) days from the date of this publication comments relating to the Consent Decree. Comments should be addressed to the Assistant Attorney General of the Environment and Natural Resources Division, Department of Justice, Washington, DC 20530, and should refer to United States v. Marine Shale Processors, Inc., D.J. Ref. 90-11-2-204C. In light of recent mail delays, commenters should notify Darlene Lyons, Department of Justice, of the submission of any comments, by telephone at 202-514-1605.

The consent decree amendments may be examined at the Office of the United States Attorney, Hale Boggs Federal Building, 501 Magazine Street, New Orleans, LA 70130, at U.S. EPA Region VI, 1445 Ross Avenue Dallas, TX 75202-2733, and at the Consent Decree Library, P.O. Box 7611, U.S. Department of Justice, Washington, DC 20044-7611. A copy of the consent decree amendments may be obtained by mail from the Consent Decree Library, P.O. Box 7611, U.S. Department of Justice, Washington, DC 20044-7611. In requesting a copy, please enclose a check in the amount of $1.00 (25 cents per page reproduction cost) payable to the Consent Decree Library.

Thomas A. Mariani, Jr.,
Assistant Chief, Environmental Enforcement Section, Environment and Natural Resources Division.

[FR Doc. 01-31791 Filed 12-26-01; 8:45 am]

BILLING CODE 4410-15-M